DEPARTMENT OF THE INTERIOR

Bureau of Land Management

[LLWY910000 L16100000 XX0000]

Notice of Public Meeting; Wyoming Resource Advisory Council

AGENCY: Bureau of Land Management, Interior.

ACTION: Notice of public meeting.

SUMMARY: In accordance with the Federal Land Policy and Management Act and the Federal Advisory Committee Act of 1972, the U.S. Department of the Interior, Bureau of Land Management (BLM) Wyoming Resource Advisory Council (RAC) will meet as indicated below.

DATES: The meeting will be held October 12, 2011 (8 a.m.-5 p.m.) and October 13, 2011 (8 a.m.-2:30 p.m.) with a 30-minute public comment period and will adjourn at 3 p.m.

ADDRESSES: The meeting will be in the Bureau of Land Management Pinedale Field Office, 1625 West Pine Street, Pinedale, WY.

SUPPLEMENTARY INFORMATION: This 10-member council advises the Secretary of the Interior on a variety of management issues associated with public land management in Wyoming.

Planned agenda topics include discussions on mitigation, restoration, monitoring and stewardship. A field trip to look at various projects will be held on October 13, 2011. A half-hour public comment period, where the public may address the Council, is scheduled to begin at 3 p.m. All RAC meetings are open to the public. The public may present written comments to the RAC. Each formal RAC meeting will also have time allocated for hearing public comments. Depending on the number of persons wishing to comment and time available, the time for individual oral comments may be limited.

FOR FURTHER INFORMATON CONTACT: Cindy Wertz, Wyoming Resource Advisory Council Coordinator, Wyoming State Office, 5353 Yellowstone, Cheyenne, Wyoming, 82009, telephone 307-775-6014. Persons who use a telecommunications device for the deaf (TDD) may call the Federal Information Relay Service (FIRS) at 1-800-877-8339 to contact the above individual during normal business hours. The FIRS is available 24 hours a day, 7 days a week, to leave a message or question with the above individual. You will receive a reply during normal business hours.

Donald A. Simpson,
State Director.

[FR Doc. 2011-23193 Filed 9-9-11; 8:45 am]

BILLING CODE 4310-22-P